DEPARTMENT OF LABOR

Employment and Training Administration

Notice of Determinations Regarding Eligibility to Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of March 2006.

In order for an affirmative determination to be made and a certification of eligibility to apply for directly-impacted (primary) worker adjustment assistance to be issued, each of the group eligibility requirements of section 222(a) of the Act must be met.

I. Section (a) (2) (A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a) (2) (B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Affirmative Determinations for Worker Adjustment Assistance and Alternative Trade Adjustment Assistance

The following certifications have been issued; the date following the company name and location of each determination references the impact date for all workers of such determination.

The following certifications have been issued. The requirements of (a)(2)(A) (increased imports) of Section 222 have been met, and Section 246(a)(3)(A)(ii) of the Trade Act have been met.

TA-W-58,829; Winspec Manufacturing, Ronkonkoma, NY: February 9, 2005

TA-W-58,850; American Fiber and Finishing, Inc., Newberry, SC: October 7, 2005

TA-W-58,893; Agilent Technologies, Inc., Automated Test Group, Semiconductor Test Solutions, Leased Wkrs of Voit, Santa Rosa, CA: February 22, 2005

TA-W-58,893A; Agilent Technologies, Inc., Automated Test Group, Semiconductor Test Solutions, Tempe, AZ: February 22, 2005

TA-W-58,893B; Agilent Technologies, Inc., Automated Test Group, Semiconductor Test Solutions, Palo Alto, CA: February 22, 2005

TA-W-58,893C; Agilent Technologies, Inc., Automated Test Group, Semiconductor Test Solutions, Santa Clara, CA: February 22, 2005

TA-W-58,893D; Agilent Technologies, Inc., Automated Test Group, Semiconductor Test Solutions, Yorba Linda, CA: February 22, 2005

TA-W-58,893E; Agilent Technologies, Inc., Automated Test Group, Semiconductor Test Solutions, Colorado Springs, CO: February 22, 2005

TA-W-58,893F; Agilent Technologies, Inc., Automated Test Group, Semiconductor Test Solutions, Englewood, CO: February 22, 2005

TA-W-58,893G; Agilent Technologies, Inc., Automated Test Group, Semiconductor Test Solutions, Fort Collins, CO: February 22, 2005

TA-W-58,893H; Agilent Technologies, Inc., Automated Test Group, Semiconductor Test Solutions, Loveland, CO: February 22, 2005

TA-W-58,893I; Agilent Technologies, Inc., Automated Test Group, Semiconductor Test Solutions, Merritt Island, FL: February 22, 2005

TA-W-58,893J; Agilent Technologies, Inc., Automated Test Group, Semiconductor Test Solutions, Acworth, GA: February 22, 2005

TA-W-58,893K; Agilent Technologies, Inc., Automated Test Group, Semiconductor Test Solutions, Carmel, IN: February 22, 2005

TA-W-58,893L; Agilent Technologies, Inc., Automated Test Group, Semiconductor Test Solutions, Andover, MA: February 22, 2005

TA-W-58,893M; Agilent Technologies, Inc., Automated Test Group, Semiconductor Test Solutions, Rye, NH: February 22, 2005

TA-W-58,893N; Agilent Technologies, Inc., Automated Test Group, Semiconductor Test Solutions, Cary, NC: February 22, 2005

TA-W-58,893O; Agilent Technologies, Inc., Automated Test Group, Semiconductor Test Solutions, Shelby, NC: February 22, 2005

TA-W-58,893P; Agilent Technologies, Inc., Automated Test Group, Semiconductor Test Solutions, Allentown, PA: February 22, 2005

TA-W-58,893Q; Agilent Technologies, Inc., Automated Test Group, Semiconductor Test Solutions, Austin, TX: February 22, 2005

TA-W-58,893R; Agilent Technologies, Inc., Automated Test Group, Semiconductor Test Solutions, Roanoke, VA: February 22, 2005

TA-W-58,893S; Agilent Technologies, Inc., Automated Test Group, Semiconductor Test Solutions, Newcastle, WA: February 22, 2005

TA-W-58,893T; Agilent Technologies, Inc., Automated Test Group, Semiconductor Test Solutions, Sequim, WA: February 22, 2005

TA-W-58,893U; Agilent Technologies, Inc., Automated Test Group, Semiconductor Test Solutions, Brookfield, WI: February 22, 2005

TA-W-58,913; Century Furniture LLC, Case Goods Plant #1, A Subsidiary of CV Industries, Hickory, NC: February 24, 2005

TA-W-58,916A; Sony Electronics, Vatio of America, On-site wkrs of Remedy Staffing and Staffmark, San Diego, CA: May 20, 2005

TA-W-58,931; Johnson Electric Automotive, Brownsville, TX: February 28, 2005

TA-W-58,987; Lady Ester Lingerie Corporation, Berwick, PA: March 8, 2005

TA-W-58,990; Springs Global US, Inc., HW Close Plant, Fort Lawn, SC: March 1, 2005

TA-W-59,004; Acco Chain and Lifting Products, A Division of FKI Industries, York, PA: March 7, 2005

TA-W-59,029; American and Efird, Inc., Gastonia, NC: February 20, 2005

TA-W-59,031; Fraser Papers L.L.C., Berlin, NH: March 14, 2005

TA-W-59,081; CFM Home Products, Joplin, MO: March 17, 2005

TA-W-59,085; Barry Controls Defense and Industrial, A Subsidiary of the Hutchinson Group, Camden, AR: March 24, 2005

TA-W-58,506; Alpha Sintered Metals, Inc., Ridgway, PA: December 14, 2004

TA-W-58,690; Weyerhaeuser, Veneer Technologies, Wright City, OK: January 20, 2005

TA-W-58,754; Allegheny Color Corporation, A Division of Apollo Colors, Inc., Ridgway, PA: January 30, 2005

TA-W-58,866; Dolan Industries, Inc., Clinton, MA: February 16, 2005

TA-W-59,055; New England Confectionery Company (NECCO), Stark Candy Division, Thibodaux, LA: March 16, 2005

The following certifications have been issued. The requirements of (a)(2)(B) (shift in production) of section 222 and section 246(a)(3)(A)(ii) of the Trade Act have been met.

TA-W-58,882; APA Enterprises, Inc., Aberdeen, SD: February 6, 2005

TA-W-58,918; Perlos, Inc., Including On-Site Leased Wkrs of Cornerstone Staffing, Ft. Worth, TX: March 23, 2005

TA-W-59,013; Conopco, Inc., dba Unilever, dba Unilever Food Division, Leased Wkrs of Key Resources, Asheboro, NC: March 13, 2005

TA-W-59,040; AH Schreiber Company, Gordon Garment Division, Bristol, VA: May 13, 2006

TA-W-58,715; Interface Fabrics, East Douglas, MA: January 20, 2005

TA-W-58,871; Tyco Electronics, Div. Tyco International, Lombard, IL: February 3, 2005

TA-W-58,978; Confluent Photonics Corp., A Subsidiary of Auxora, Inc., Salem, NH: March 9, 2005

TA-W-59,074; Western Graphics Corporation, Including Leased Wkrs of Personnel Source, Eugene, OR: March 21, 2005

The following certification has been issued.

The requirement of supplier to a trade certified firm and section 246(a)(3)(A)(ii) of the Trade Act have been met.

None.

The following certification has been issued.

The requirement of downstream producer to a trade certified firm and section 246(a)(3)(A)(ii) of the Trade Act have been met.

TA-W-59,036; Collins and Aikman, Southwest Laminates, Inc. Division, El Paso, TX: March 15, 2005

Negative Determinations for Worker Adjustment Assistance

In the following cases, the investigation revealed that the criteria for eligibility have not been met for the reasons specified.

The investigation revealed that criterion (a)(2)(A)(I.A) and (a)(2)(B)(II.A) (no employment decline) has not been met.

None.

The investigation revealed that criteria (a)(2)(A)(I.B.) (Sales or production, or both, did not decline) and (a)(2)(B)(II.B) (shift in production to a foreign country) have not been met.

None.

The investigation revealed that criteria (a)(2)(A)(I.C.) (increased imports) and (a)(2)(B)(II.B) (No shift in production to a foreign country) have not been met.

TA-W-58,887; Haden Schweitzer Corp., A Division of Haden International Group, Auburn Hills, MI.

TA-W-58,897; Ingersoll CM Systems, LLC, Midland, MI.

TA-W-58,902; Marcus Brothers Textiles, New York, NY.

TA-W-58,948; Carolina Mills, Inc., Plant #3, Newton, NC.

The investigation revealed that criteria (a)(2)(A)(I.C.)(Increased imports and (a)(2)(B) (II.C) (has shifted production to a foreign country) have not been met.

None.

The workers firm does not produce an article as required for certification under section 222 of the Trade Act of 1974.

TA-W-58,909; Abco Rents, Inc., Laurens, SC.

TA-W-58,922; Radici Fabrics USA, Fall River, MA.

TA-W-58,942; Holmes Group (The), A Subsidiary of Jarden Corp., Sedalia, MO.

TA-W-58,966; Quintiles, Inc., A Subsidiary of Quintiles Transnational Corp., Data Management Department, Morrisville, NC.

TA-W-59,020; Sony Electronics, Inc., Local Service Center, Customer Service Division, San Diego, CA.

TA-W-59,034; ExxonMobil Chemical Co., A Division of Exxon Mobil Corp., Film Division, Macedon, NY.

TA-W-59,038; Shure Electronics, Douglas, AZ.

The investigation revealed that criteria (2) has not been met. The workers firm (or subdivision) is not a supplier or downstream producer to trade-affected companies.

None.

Negative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

In the following cases, it has been determined that the requirements of section 246(a)(3)(ii) have not been met for the reasons specified.

Since the workers are denied eligibility to apply for TAA, the workers cannot be certified eligible for ATAA.

TA-W-58,887; Haden Schweitzer Corp., A Division of Haden International Group, Auburn Hills, MI.

TA-W-58,897; Ingersoll CM Systems, LLC, Midland, MI.

TA-W-58,902; Marcus Brothers Textiles, New York, NY.

TA-W-58,948; Carolina Mills, Inc., Plant # 3, Newton, NC.

TA-W-58,909; Abco Rents, Inc., Laurens, SC.

TA-W-58,922; Radici Fabrics USA, Fall River, MA.

TA-W-58,942; Holmes Group (The), A Subsidiary of Jarden Corp., Sedalia, MO.

TA-W-58,966; Quintiles, Inc., A Subsidiary of Quintiles Transnational Corp., Data Management Department, Morrisville, NC.

TA-W-59,020; Sony Electronics, Inc., Local Service Center, Customer Service Division, San Diego, CA.

TA-W-59,034; ExxonMobil Chemical Co., A Division of Exxon Mobil Corp., Film Division, Macedon, NY.

TA-W-59,038; Shure Electronics, Douglas, AZ.

The Department as determined that criterion (1) of section 246 has not been met. Workers at the firm are 50 years of age or older.

TA-W-59,031; Fraser Papers L.L.C., Berlin, NH.

TA-W-58,882; APA Enterprises, Inc., Aberdeen, SD.

The Department as determined that criterion (2) of Section 246 has not been met. Workers at the firm possess skills that are easily transferable.

TA-W-59,029; American and Efird, Inc., Gastonia, NC.

TA-W-59,081; CFM Home Products, Joplin, MO.

TA-W-59,055; New England Confectionery Company (NECCO), Stark Candy Division, Thibodaux, LA.

TA-W-58,918; Perlos, Inc., Including On-Site Leased Workers of Cornerstone Staffing, Ft. Worth, TX.

The Department as determined that criterion (3) of Section 246 has not been met. Competition conditions within the workers' industry are not adverse.

None.

I hereby certify that the aforementioned determinations were issued during the month of March 2006. Copies of These determinations are available for inspection in Room C-5311, U.S. Department of Labor, 200 Constitution Avenue, NW., Washington, DC 20210 during normal business hours or will be mailed to persons who write to the above address.

Dated: April 7, 2006.
Erica R. Cantor,
Director, Division of Trade Adjustment Assistance.

[FR Doc. E6-5658 Filed 4-14-06; 8:45 am]

BILLING CODE 4510-30-P